DEPARTMENT OF STATE

[Public Notice: 9769]

U.S. Department of State Advisory Committee on Private International Law: Notice of Annual Meeting

The Department of State's Advisory Committee on Private International Law (ACPIL) will hold its annual meeting on Wednesday, November 16, 2016 in Washington, DC The meeting will be held at the Howard University School of Law, 2900 Van Ness Street, Washington, DC 20008. The program is scheduled to run from 9:00 a.m. to 4:30 p.m.

Time permitting, we expect that the discussion will focus on developments and ongoing work in major PIL organizations, We also intend to discuss possible future work in the PIL field and solicit suggestions in that regard.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to pil@state.gov. Those planning to attend should provide name, affiliation and contact information to pil@state.gov. You may also use this email address to obtain additional information. A member of the public needing reasonable accommodation should advise those same contacts not later than November 7th. Requests made after that date will be considered, but might not be able to be fulfilled.

Dated: October 7, 2016.
John J. Kim,
Assistant Legal Adviser, Office of Private International Law, Office of the Legal Adviser, Department of State.

[FR Doc. 2016-25415 Filed 10-19-16; 8:45 am]

BILLING CODE 7410-08-P